DEPARTMENT OF COMMERCE

National Oceanic and Atmospheric Administration

Agency Information Collection Activities; Submission to the Office of Management and Budget (OMB) for Review and Approval; Comment Request; Atlantic Herring Amendment 5 Data Collection

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 29, 2022.

ADDRESSES: Interested persons are invited to submit written comments to Adrienne Thomas, NOAA PRA Officer, at Adrienne.Thomas@noaa.gov. Please reference OMB Control Number 0648-0674 in the subject line of your comments. Do not submit Confidential Business Information or otherwise sensitive or protected information.

FOR FURTHER INFORMATION CONTACT: Requests for additional information or specific questions related to collection activities should be directed to Carrie Nordeen, Fishery Policy Analyst, 55 Great Republic Drive, Gloucester, MA 01930 or 978-281-9272 or Carrie.Nordeen@noaa.gov.

SUPPLEMENTARY INFORMATION:

I. Abstract

This request is for an extension of a currently approved collection associated with the Atlantic herring fishery. National Marine Fisheries Service (NMFS) Greater Atlantic Region manages these fisheries in the Exclusive Economic Zone (EEZ) of the Northeastern United States through the Atlantic Herring Fishery Management Plan (FMP). The New England Fishery Management Council prepared the FMP pursuant to the Magnuson-Stevens Fishery Conservation and Management Act (Magnuson-Stevens Act). The regulations implementing the FMP are specified at 50 CFR part 648 and the recordkeeping and reporting requirements at § 648.11 form the basis for this collection of information.

In 2014, NMFS implemented Amendment 5 to the Atlantic Herring FMP to improve the collection of real-time and accurate catch information for the Atlantic herring fishery; enhance the monitoring and sampling of catch at-sea; and address bycatch issues, in particular bycatch of river herrings and shads, through responsible management.

In 2020, NMFS implemented the New England Industry Funded Monitoring (IFM) Omnibus Amendment to increase monitoring in certain FMPs, above levels required by the Standardized Bycatch Reporting Methodology (SBRM), to assess the amount and type of catch and to reduce variability around catch estimates. This amendment created a structure by which industry funding would be used in conjunction with available federal funding to pay for additional monitoring to meet FMP-specific coverage targets and required IFM in the Atlantic herring fishery.

We request the continued collection of the following information to improve monitoring and the collection of catch information in the Atlantic herring fishery:

• Observer notification requirement for permitted herring vessels to facilitate SBRM and IFM coverage;

• Requirement for vessel captains to submit a Released Catch Affidavit form documenting the discarding of unsampled catch;

• A requirement that Category A and B Atlantic herring permit holders pay for vessel at-sea monitoring costs, estimated to be up to $710 per sea day, on trips selected for IFM coverage (50% coverage target);

• The option for Category A and B Atlantic herring permit holders that fish with midwater trawl gear to obtain an IFM observer allowing the vessel to fish in groundfish closed areas and pay for the vessel's at-sea monitoring costs, estimated to be up to $818 per sea day; and

• Requirements for IFM monitor service providers to submit reports to NMFS on behalf of Category A or B Atlantic herring permitted vessels or for meeting service provider responsibilities for service provider approval and to facilitate accurate catch monitoring.

II. Method of Collection

Atlantic herring vessels and their respective IFM service providers on their behalf submit information to NMFS via web portal, email, phone, fax, or mail. Instructions for vessels are located at https://www.fisheries.no.aa.gov/bulletin/notification-reporting-and-monitoring-requirements-atlantic-herring-fishery.

III. Data

OMB Control Number: 0648-0674.

Form Number(s): None.

Type of Review: Regular (extension of existing information collection).

Affected Public: Business or other for-profit organizations.

Estimated Number of Respondents: 622.

Estimated Time per Response: For participants in the Atlantic herring fishery, 5 minutes for a pre-trip notification; 1 minute for a trip cancellation notification; 5 minutes for a call to request an IFM observer to access groundfish closed areas; 1 minute for a trip cancellation notification for groundfish closed areas; 5 minutes for the submission of a released catch affidavit; and 1 minute for the submission of species pounds to the observer.

For IFM service providers, 10 minutes for submission of a monitor deployment report; 20 minutes for the submission of an ASM availability report; 30 minutes for the submission of a safety refusal; 5 minutes for the submission of raw monitor data; 2 hours for a monitor debriefing; 30 minutes for the submission of other reports; 1 hour for the submission of biological samples; 10 hours for the submission of a new service provider application; 10 hours for an applicant response to a service provider denial; 30 minutes to request monitor training; 8 hours to rebut removal from the list of approved IFM service providers; 10 minutes to process request for an ASM; 5 minutes to notify unavailability of ASMs; 10 minutes to process request for an IFM observer in groundfish closed area; 5 minutes to notify unavailability of IFM observers; 5 minutes for the submission of monitor contact list updates; 5 minutes for the submission of monitor availability updates; 30 minutes for submission of service provider materials; and 30 minutes for the submission of service provide contracts.

Estimated Total Annual Burden Hours: 1,848.

Estimated Total Annual Cost to Public: $791,210.

Respondent's Obligation: Mandatory.

Legal Authority: Magnuson-Stevens Fishery Conservation and Management Act (16 U.S.C. 1801 et seq, Section 303).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-21312 Filed 9-29-22; 8:45 am]

BILLING CODE 3510-22-P